DEPARTMENT OF TRANSPORTATION

Maritime Administration

[Docket No. DOT-MARAD-2019-0087]

Agency Requests for Approval of a New Information Collection(s): Report of Ocean Shipments Moving Under the Cargo Preference Act of 1954—Bill of Lading

AGENCY: Maritime Administration, DOT.

ACTION: Notice and request for comments.

SUMMARY: The Department of Transportation (DOT) invites public comments about our intention to request the Office of Management and Budget (OMB) approval for a new information collection. The collection involves ocean carrier bill of lading information that will be used to ensure proper and timely shipment of government impelled cargoes, and to ensure compliance with cargo preference statutes. Aggregate data will be used for statistical purposes. We are required to publish this notice in the Federal Register by the Paperwork Reduction Act of 1995.

DATES: Written comments should be submitted by August 12, 2019.

ADDRESSES: You may submit comments [identified by Docket No. DOT-OST-2019-0087] through one of the following methods:

• Federal eRulemaking Portal: http://www.regulations.gov. Follow the online instructions for submitting comments.

• Fax: 1 (202) 493-2251.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Mr. Lalit Raina, (202) 366-2314, Lalit.Raina@DOT.gov, Office of Cargo and Commercial Sealift, Maritime Administration, U.S. Department of Transportation, 1200 New Jersey Avenue SE, Washington, DC 20590.

SUPPLEMENTARY INFORMATION:

OMB Control Number: 2133-NEW.

Title: Report of Ocean Shipments Moving Under the Cargo Preference Act of 1954—Bill of Lading—46 CFR part 381.

Form Numbers: None.

Type of Review: New Information Collection.

Background: FAR clause 52.247-64, Preference for Privately Owned U.S.-Flag Commercial Vessels, as prescribed at 47.507(a), is used in solicitations and contracts that may involve ocean transportation of supplies subject to the Cargo Preference Act of 1954. The contractor must submit one legible copy of a rated on-board bill of lading for each shipment to both the contracting officer and the Maritime Administration (MARAD). The contractor must flow this requirement down to all subcontracts and purchase orders under the contract.

The information collection procedure requires that the designated reporting party send already prepared bills of lading as presented by the U.S.-flag and foreign-flag carriers. The bills of lading should be sent to MARAD within 20 days of loading in the United States or 30 days if originating outside the United States.

Respondents: Shippers of ocean borne equipment, materials, or commodities financed in any way by federal funds (government impelled cargo).

Estimated Number of Respondents: 120.

Estimated Number of Responses: 8,040.

Estimated Total Annual Burden Hours: 402.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

(Authority: The Paperwork Reduction Act of 1995; 44 U.S.C. Chapter 35, as amended; and 49 CFR 1.93.)

* * *

Dated: June 6, 2019.
By Order of the Maritime Administrator.
T. Mitchell Hudson, Jr.,
Secretary, Maritime Administration.

[FR Doc. 2019-12330 Filed 6-11-19; 8:45 am]

BILLING CODE 4910-81-P